DEPARTMENT OF TRANSPORTATION

Federal Aviation Administration

Notice of Intent to Request Amendment From the Office of Management and Budget of a Currently Approved Information Collection Activity, Request for Comments; Outsource Maintenance Providers Quarterly Utilization Report

AGENCY: Federal Aviation Administration (FAA), DOT.

ACTION: Notice and request for comments.

SUMMARY: The FAA invites public comments about our intention to request the Office of Management and Budget (OMB) to approve an amendment of a current information collection. The amendment is to add air agencies to the list of respondents. The data from this report will be used to assist the principal maintenance or avionics inspector in revising the annual FAA surveillance requirements of the leading contract maintenance providers to the air operators and air agencies.

DATES: Please submit comments by May 1, 2006.

FOR FURTHER INFORMATION CONTACT: Judy Street on (202) 267-9895, or by e-mail at: Judy.Street@faa.gov.

SUPPLEMENTARY INFORMATION:

Federal Aviation Administration (FAA)

Title: Outsourcing Maintenance Providers Quarterly Utilization Report.

Type of Request: Amendment of an approved collection.

OMB Control Number: 2120-0708.

Forms(s): Quarterly Outsource Maintenance Providers Utilization Report.

Affected Public: An estimated 5,800 respondents.

Frequency: The information is collected quarterly.

Estimated Average Burden per Response: Approximately 1 hour per response.

Estimated Annual Burden Hours: An estimated 23,200 hours annually (This is an increase over the previous estimate for this collection. We have expanded the respondent base for this collection).

Abstract: The data from this report will be used to assist the principal maintenance or avionics inspector in revising the annual FAA surveillance requirements of the leading contract maintenance providers to the air operators and air agencies.

ADDRESSES: Send comments to the FAA at the following address: Ms. Judy Street, Room 612, Federal Aviation Administration, Standards and Information Division, ABA-20, 800 Independence Ave., SW., Washington, DC 20591.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on February 24, 2006.
Judith D. Street,
FAA Information Collection Clearance Officer, Information Systems and Technology Services Staff, ABA-20.

[FR Doc. 06-1947 Filed 3-1-06; 8:45 am]

BILLING CODE 4910-13-M